DEPARTMENT OF LABOR

Disability Employment Policy Office

[OMB Control No. 1230-0NEW]

Agency Information Collection Activities; Proposals, Submissions, and Approvals

AGENCY: Office of Disability Employment Policy, United States Department of Labor.

ACTION: Notice of information collection and request for public comments.

SUMMARY: The Department of Labor (DOL) Office of Disability Employment Policy is soliciting comments regarding this ODEP-sponsored information collection for the Research Support Services for Employment of Young Adults on the Autism Spectrum [REYAAS] Project. As part of its continuing effort to reduce paperwork and respondent burden, DOL conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed.

DATES: Comments pertaining to this information collection are due on or before October 11, 2024.

ADDRESSES: You may submit comments as follows. Please note that late, untimely filed comments will not be considered.

Electronic Submissions: Submit electronic comments in the following way:

• Federal eRulemaking Portal: https://www.regulations.gov. Follow the online instructions for submitting comments. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-ODEP, 200 Constitution Ave. NW, Room S-5315, Washington, DC 20210. Before visiting DOL-ODEP in person, call 202-693-7840 to make an appointment, in keeping with the Department of Labor's COVID-19 policy. Special health precautions may be required.

• DOL-ODEP will post your comment as well as any attachments, except for information submitted and marked as confidential, in the docket at https://www.regulations.gov.

FOR FURTHER INFORMATION CONTACT: David Rosenblum by telephone at 202-693-7840 (this is not a toll-free number) or by email at DOL_PRA_PUBLIC@dol.gov.

SUPPLEMENTARY INFORMATION:

I. Background

Recent estimates suggest that there are more than one million young adults (ages 16 through 28) on the autism spectrum in the U.S. who offer myriad strengths to potential employers yet face unique challenges in attaining and maintaining employment. The mix of challenges facing young adults on the autism spectrum during the transition to adulthood and employment vary. About 1 in 3 also have an intellectual disability (Maenner et al. 2020; U.S. Department of Health and Human Services (DHHS) 2017), and prevalence estimates of minimally and nonverbal status across studies converge at around 30 percent (Tager-Flusberg and Kasari 2013). People on the spectrum also have high rates of co-occurring medical and mental health conditions, including attention-deficit/hyperactivity disorder, anxiety, and depression (Kerns et al. 2020). An additional challenge for young adults on the spectrum is that many will need various kinds of support from multiple providers and across different systems of care, and they can face increasing difficulty meeting their complex service needs as they transition to adult service systems (Foster and Gifford 2005; Shattuck et al. 2011). These factors can combine to make it challenging for youth on the autism spectrum to attain and maintain employment.

Public policy increasingly acknowledges the importance of addressing the employment-related challenges facing young adults on the autism spectrum. The most recent federal Autism Collaboration, Accountability, Research, Education and Support (CARES) Act of 2019 emphasized that funding should increase for research on factors associated with better young adult outcomes. In 2021, Congress requested that research be conducted on improving employment outcomes for this population.

To better understand the employment experiences and outcomes of young adults on the autism spectrum, this study will conduct two data collection activities. First, the study team will conduct a large-scale survey of autistic young adults ages 16 to 28, which will be one of the first large-scale data collections of employment outcomes for this population (Musse et al., 2022). Second, the study team will conduct follow-up qualitative telephone or web interviews with a subset of survey respondents. This study will provide insightful data on the employment experiences of young adults on the autism spectrum, which policymakers and the autism community can use to inform program and policy changes that support the well-being of autistic people.

This information collection is subject to the Paperwork Reduction Act (PRA). A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6. The DOL seeks PRA authorization for this information collection for three (3) years. OMB authorization for an Information Collection Review cannot be for more than three (3) years without renewal.

II. Desired Focus of Comments

DOL is soliciting comments concerning the proposed information collection related to Research Support Services for Employment of Young Adults on the Autism Spectrum [REYAAS] Project. DOL is particularly interested in comments that:

• Evaluate whether the collection of information is necessary for the proper performance of the functions of the Agency, including whether the information has practical utility;

• Evaluate the accuracy of DOL's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL located at 200 Constitution Ave. NW, Room S-5315, Washington, DC 20210. Questions about the information collection requirements may be directed to the person listed in the FOR FURTHER INFORMATION CONTACT section of this notice.

III. Current Actions

This information collection request concerns the Research Support Services for Employment of Young Adults on the Autism Spectrum [REYAAS] Project. DOL-ODEP has included the number of respondents, responses, burden hours, and burden costs supporting this information collection request below.

Type of Review: New collection.

Agency: DOL-ODEP.

OMB Number: 1230-0NEW.

Affected Public: Individuals and public.

Number of Respondents: 3,030 (3,000 for survey, 30 for interviews).

Frequency: Once per respondent.

Number of Responses: 3,030.

Annual Burden Hours: 1,015 hours.

Estimated Time per Response: 20 minutes per survey, 30 minutes per interview.

Total Estimated Annual Other Costs Burden: $0.

Estimated Hours of Burden to Participant Data Collection
Study | Number of respondents | Average time per respondent (minutes) | Total time burden (hours)
Year 1—Survey | 3,000 | 20 | 1,000
Year 1—Interviews | 30 | 30 | 15
One-year total | 3,030 |  | 1,015

Authority: 44 U.S.C. 3506(c)(2)(A).

Comments submitted in response to this notice will be summarized in the request for Office of Management and Budget approval of the proposed information collection request; they will become a matter of public record and will be available at https://www.reginfo.gov.

Taryn Tyler,
Assistant Secretary, Office of Disability Employment Policy, Certifying Officer.

[FR Doc. 2024-17852 Filed 8-9-24; 8:45 am]

BILLING CODE 4510-FK-P